DEPARTMENT OF THE INTERIOR

Fish and Wildlife Service

[FWS-R9-IA-2011-N068; 96300-1671-0000 FY11-R4]

Species Proposals for Consideration at the Sixteenth Regular Meeting of the Conference of the Parties to the Convention on International Trade in Endangered Species of Wild Fauna and Flora

AGENCY: Fish and Wildlife Service, Interior.

ACTION: Notice.

SUMMARY: We invite you to provide us with information and recommendations on animal and plant species that should be considered as candidates for U.S. proposals to amend Appendices I and II of the Convention on International Trade in Endangered Species of Wild Fauna and Flora (CITES or the Convention) at the upcoming sixteenth meeting of the Conference of the Parties (CoP16). Such amendments may concern the addition of species to Appendix I or II, the transfer of species from one Appendix to another, or the removal of species from Appendix II. Finally, with this notice, we also describe the U.S. approach to preparations for CoP16. We will publish a second Federal Register notice to solicit information and recommendations on possible resolutions, decisions, and agenda items for discussion at CoP16 and to provide information on how to request approved observer status.

DATES: We will consider all information and comments we receive on or before August 15, 2011.

ADDRESSES: Send correspondence pertaining to species proposals to the Division of Scientific Authority; U.S. Fish and Wildlife Service; 4401 North Fairfax Drive; Room 110; Arlington, VA 22203; or via e-mail to: CoP16species@fws.gov. Comments and materials we receive pertaining to species proposals will be available for public inspection, by appointment, from 8 a.m. to 4 p.m., Monday through Friday, at the Division of Scientific Authority.

FOR FURTHER INFORMATION CONTACT: Rosemarie Gnam, Chief, Division of Scientific Authority; phone 703-358-1708; fax 703-358-2276; e-mail: scientificauthority@fws.gov.

SUPPLEMENTARY INFORMATION:

Background

The Convention on International Trade in Endangered Species of Wild Fauna and Flora, hereinafter referred to as CITES or the Convention, is an international treaty designed to regulate international trade in certain animal and plant species that are now, or potentially may become, threatened with extinction. These species are listed in the Appendices to CITES, which are available on the CITES Secretariat's Web site at http://www.cites.org/eng/app/index.shtml.

Currently, 175 countries, including the United States, are Parties to CITES. The Convention calls for regular biennial meetings of the Conference of the Parties, unless the Conference decides otherwise. At these meetings, the Parties review the implementation of CITES, make provisions enabling the CITES Secretariat in Switzerland to carry out its functions, consider amendments to the list of species in Appendices I and II, consider reports presented by the Secretariat, and make recommendations for the improved effectiveness of CITES. Any country that is a Party to CITES may propose amendments to Appendices I and II, resolutions, decisions, and agenda items for consideration by all the Parties at the meeting.

This is our first in a series of Federal Register notices that, together with an announced public meeting, provide you with an opportunity to participate in the development of the U.S. submissions to and negotiating positions for the sixteenth regular meeting of the Conference of the Parties to CITES (CoP16). Our regulations governing this public process are found in Title 50 of the Code of Federal Regulations (CFR) at § 23.87.

Announcement of the Sixteenth Meeting of the Conference of the Parties

We hereby notify you of the convening of CoP16, which is tentatively scheduled to be held in Pattaya, Thailand, in March 2013.

U.S. Approach for CoP16

What are the priorities for U.S. submissions to CoP16?

Priorities for U.S. submissions to CoP16 continue to be consistent with the overall objective of U.S. participation in the Convention: to maximize the effectiveness of the Convention in the conservation and sustainable use of species subject to international trade. With this in mind, we plan to consider the following factors in determining what issues to submit for inclusion in the agenda at CoP16:

(1) Does the proposed action address a serious wildlife or plant trade issue that the United States is experiencing as a range country for species in trade? Since our primary responsibility is the conservation of our domestic wildlife resources, we will give native species the highest priority. We will place particular emphasis on terrestrial and freshwater species with the majority of their range in the United States and its territories that are or may be traded in significant numbers; marine species that occur in U.S. waters or for which the United States is a major trader; and threatened and endangered species for which we and other Federal and State agencies already have statutory responsibility for protection and recovery. We also consider CITES listings as a proactive measure to monitor and manage trade in native species to preclude the need for the application of stricter measures, such as listing under the Endangered Species Act of 1973, as amended (16 U.S.C. 1531 et seq.), or inclusion in CITES Appendix I.

(2) Does the proposed action address a serious wildlife or plant trade issue for species not native to the United States? As a major importer of wildlife, plants, and their products, the United States has taken responsibility, by working in close consultation with range countries, for addressing cases of potential over-exploitation of foreign species in the wild. In some cases, the United States may not be a range country or a significant trading country for a species, but we will work closely with other countries to conserve species being threatened by unsustainable exploitation for international trade. We will consider CITES listings for species not native to the United States if those listings will assist in addressing cases of known or potential over-exploitation of foreign species in the wild, and in preventing illegal, unregulated trade, especially if the United States is a major importer. These species will be prioritized based on the extent of trade and status of the species, and also the role the species play in the ecosystem, with emphasis on those species for which a CITES listing would offer the greatest conservation benefits to the species, associated species, and their habitats.

(3) Does the proposed action provide additional conservation benefit for a species already covered by another international agreement? The United States will consider the listing of such a species under CITES when it would enhance the conservation of the species by ensuring that international trade is effectively regulated and not detrimental to the survival of the species.

Request for Information and Recommendations for Amending Appendices I or II

The purpose of this notice is to solicit information and recommendations that will help us identify species that the United States should propose for addition to, removal from, or reclassification in the CITES Appendices, or to identify issues warranting attention by the CITES specialists on zoological and botanical nomenclature. This request is not limited to species occurring in the United States. Any Party may submit proposals concerning animal or plant species occurring in the wild anywhere in the world. We encourage the submission of information on any species for possible inclusion in the Appendices if these species are subject to international trade that is, or may become, detrimental to the survival of the species. We also encourage you to keep in mind the U.S. approach to CoP16, described above in this notice, when considering what species the United States should propose for inclusion in the Appendices.

We are not necessarily requesting complete proposals, but they are always welcome. However, we are asking you to submit convincing information describing: (1) The status of the species, especially trend information; (2) conservation and management programs for the species, including the effectiveness of enforcement efforts; and (3) the level of international as well as domestic trade in the species, especially trend information. You may also provide any other relevant information, and we appreciate receiving a list of references.

The term “species” is defined in CITES as “any species, subspecies, or geographically separate population thereof.” Each species for which trade is controlled under CITES is included in one of three Appendices, either as a separate listing or incorporated within the listing of a higher taxon. The basic standards for inclusion of species in the Appendices are contained in Article II of CITES (text of the Convention is on the CITES Secretariat's Web site at http://www.cites.org/eng/disc/text.shtml). Appendix I includes species threatened with extinction that are or may be affected by trade. Appendix II includes species that, although not necessarily now threatened with extinction, may become so unless trade in them is strictly controlled. Appendix II also lists species that must be subject to regulation in order that trade in other CITES-listed species may be brought under effective control. Such listings usually are necessary because of difficulty inspectors have at ports of entry or exit in distinguishing one species from other species. Because Appendix III only includes species that any Party may list unilaterally, we are not seeking input on possible U.S. Appendix-III listings with this notice, and we will not consider or respond to comments received concerning Appendix-III listings.

CITES specifies that international trade in any readily recognizable parts or derivatives of animals listed in Appendices I or II, or plants listed in Appendix I, is subject to the same conditions that apply to trade in the whole organisms. With certain standard exclusions formally approved by the Parties, the same applies to the readily recognizable parts and derivatives of most plant species listed in Appendix II. Parts and derivatives often not included (i.e., not regulated) for Appendix-II plants are: Seeds, spores, pollen (including pollinia), and seedlings or tissue cultures obtained in vitro and transported in sterile containers. You may refer to the CITES Appendices on the Secretariat's Web site at http://www.cites.org/eng/app/index.shtml for further exceptions and limitations. In 1994, the CITES Parties adopted criteria for inclusion of species in Appendices I and II (in Resolution Conf. 9.24 (Rev. CoP15)). These criteria apply to all listing proposals and are available from the CITES Secretariat's Web site at http://www.cites.org/eng/res/index.shtml or upon request from the Division of Scientific Authority at the address listed under ADDRESSES. Resolution Conf. 9.24 (Rev. CoP15) also provides a format for proposals to amend the Appendices.

What Information Should be Submitted?

In response to this notice, to provide us with information and recommendations on species subject to international trade for possible proposals to amend the Appendices, please include as much of the following information as possible in your submission:

(1) Scientific name and common name;

(2) Population size estimates (including references if available);

(3) Population trend information;

(4) Threats to the species (other than trade);

(5) The level or trend of international trade (as specific as possible but without a request for new searches of our records);

(6) The level or trend in total take from the wild (as specific as reasonable); and

(7) A short summary statement clearly presenting the rationale for inclusion in or removal or transfer from one of the Appendices, including which of the criteria in Resolution Conf. 9.24 (Rev. CoP15) are met.

If you wish to submit more complete proposals for us to consider, please consult Resolution Conf. 9.24 (Rev. CoP15) for the format for proposals and a detailed explanation of each of the categories. Proposals to transfer a species from Appendix I to Appendix II or to remove a species from Appendix II must also be in accordance with the precautionary measures described in Annex 4 of Resolution Conf. 9.24 (Rev. CoP15).

What Will We Do With the Information We Receive?

The information that you submit will help us decide if we should submit or co-sponsor with other Parties a proposal to amend the CITES Appendices. However, there may be species that qualify for CITES listing but for which we may decide not to submit a proposal to CoP16. Our decision will be based on a number of factors, including available scientific and trade information; whether or not the species is native to the United States; and for foreign species, whether or not a proposal is supported or co-sponsored by at least one range country for the species. These factors and others are included in the U.S. approach to CoP16, described above in this notice. We will carefully consider all factors of the U.S. approach when deciding which species the United States should propose for inclusion in the Appendices.

We will consult range countries for foreign species, and for species we share with other countries, after receiving and analyzing the information provided by the public in response to this notice as well as other information available to us.

One important function of the CITES Scientific Authority of each Party country is monitoring the international trade in plant and animal species, and ongoing scientific assessments of the impact of that trade on species. For native U.S. species listed in Appendices I and II, we monitor trade and export permits authorized so that we can prevent over-utilization and restrict exports if necessary. We also work closely with the States to ensure that species are correctly listed in the CITES Appendices (or not listed, if a listing is not warranted). For these reasons, we actively seek information about U.S. and foreign species subject to international trade.

Future Actions

As stated above, the next regular meeting of the Conference of the Parties (CoP16) is tentatively scheduled to be held in Pattaya, Thailand, in March 2013. The United States must submit any proposals to amend Appendix I or II, or any draft resolutions, decisions, or agenda items for discussion at CoP16, to the CITES Secretariat 150 days (tentatively early October 2012) prior to the start of the meeting. In order to meet this deadline and to prepare for CoP16, we have developed a tentative U.S. schedule. We plan to publish a Federal Register notice approximately 15 months prior to CoP16; in that notice, we intend to request potential resolutions, decisions, and agenda items for discussion at CoP16, and to announce tentative species proposals the United States is considering submitting for CoP16 and solicit further information and comments on them.

Approximately 9 months prior to CoP16, we plan to publish a Federal Register notice announcing proposed resolutions, decisions, and agenda items the United States is considering submitting for CoP16.

Approximately 4 months prior to CoP16, we will post on our website an announcement of the species proposals, draft resolutions, draft decisions, and agenda items submitted by the United States to the CITES Secretariat for consideration at CoP16.

Through a series of additional notices and website postings in advance of CoP16, we will inform you about preliminary negotiating positions on resolutions, decisions, and amendments to the Appendices proposed by other Parties for consideration at CoP16, and about how to obtain observer status from us. We will also publish an announcement of a public meeting tentatively to be held approximately 3 months prior to CoP16; that meeting will enable us to receive public input on our positions regarding CoP16 issues. The procedures for developing U.S. documents and negotiating positions for a meeting of the Conference of the Parties to CITES are outlined in 50 CFR 23.87. As noted, we may modify or suspend the procedures outlined there if they would interfere with the timely or appropriate development of documents for submission to the CoP and of U.S. negotiating positions.

Author

The primary author of this notice is Patricia Ford, Division of Scientific Authority, U.S. Fish and Wildlife Service.

Authority

The authority for this action is the Endangered Species Act of 1973, as amended (16 U.S.C. 1531 et seq.).

Dated: May 16, 2011.
Rowan W. Gould,
Acting Director.

[FR Doc. 2011-14605 Filed 6-13-11; 8:45 am]

BILLING CODE 4310-55-P